DEPARTMENT OF COMMERCE

National Oceanic and Atmospheric Administration

Public Meeting of the National Sea Grant Advisory Board

AGENCY: National Oceanic and Atmospheric Administration (NOAA), Office of Oceanic and Atmospheric Research (OAR), Department of Commerce (DOC).

ACTION: Notice of public meeting.

SUMMARY: This notice sets forth the schedule and proposed agenda of a forthcoming meeting of the National Sea Grant Advisory Board (Board), a Federal Advisory Committee. Board members will discuss and provide advice on the National Sea Grant College Program (Sea Grant) in the areas of program evaluation, strategic planning, education and extension, science and technology programs, and other matters as described in the agenda found on the Sea Grant website. For more information on this Federal Advisory Committee please visit the Federal Advisory Committee database: https://www.facadatabase.gov/FACA/FACAPublicPage.

DATES: The announced meeting is scheduled for Monday July 12, 2021 from 1:00 p.m.-5:00 p.m. Eastern Daylight Time (EDT).

ADDRESSES: The meeting will be held virtually only. For more information and for virtual access see below in the “Contact Information” section.

Status: The meeting will be open to public participation with a 15-minute public comment period on Monday, July 12 from 1:05 p.m.-1:20 p.m. Eastern Time. (Check agenda using the link in the Matters to be Considered section to confirm time.) The Board expects that public statements presented at its meetings will not be repetitive of previously submitted verbal or written statements. In general, each individual or group making a verbal presentation will be limited to a total time of three (3) minutes. Written comments should be received by Ms. Donna Brown by Wednesday, July 7, 2021 to provide sufficient time for Board review. Written comments received after the deadline will be distributed to the Board, but may not be reviewed prior to the meeting date.

FOR FURTHER INFORMATION CONTACT: For any questions concerning the meeting, please contact Ms. Donna Brown, National Sea Grant College Program, Phone Number: 301-734-1088; Email: oar.sg-feedback@noaa.gov). To attend via webinar, please R.S.V.P to Donna Brown (contact information above) by Wednesday, July 7, 2021.

Special Accommodations: The Board meeting is virtually accessible to people with disabilities. Requests for sign language interpretation or other auxiliary aids should be directed to Ms. Donna Brown by Wednesday, July 7, 2021.

SUPPLEMENTARY INFORMATION: The Board, which consists of a balanced representation from academia, industry, state government and citizens groups, was established in 1976 by Section 209 of the Sea Grant Improvement Act (Pub. L. 94-461, 33 U.S.C. 1128). The Board advises the Secretary of Commerce and the Director of the National Sea Grant College Program with respect to operations under the Act, and such other matters as the Secretary refers to them for review and advice.

Matters To Be Considered: Board members will discuss and vote on three decisional matters—Board Executive Committee Nomination Membership, Evaluation Committee Independent Review Panel report and recommendations, and Resilience and Social Justice Exploratory Subcommittee charge and membership. http://seagrant.noaa.gov/WhoWeAre/Leadership/NationalSeaGrantAdvisoryBoard/UpcomingAdvisoryBoardMeetings.aspx.

Eric Locklear,
Acting Chief Financial Officer/Administrative Officer, Office of Oceanic and Atmospheric Research, National Oceanic and Atmospheric Administration.

[FR Doc. 2021-12648 Filed 6-15-21; 8:45 am]

BILLING CODE 3510-KA-P